DEPARTMENT OF LABOR

Employment and Training Administration

[TA-W-65,488]

Great Lakes Recovery Systems, Ecorse, MI; Notice of Termination of Investigation

Pursuant to Section 221 of the Trade Act of 1974, as amended, an investigation was initiated on March 4, 2009 in response to a petition filed by the United Steelworkers, Local 1299, on behalf of workers at Great Lakes Recovery Systems, Ecorse, Michigan. The workers at the subject facility produce steel alloy.

The petitioner has requested that the petition be withdrawn. Consequently, the investigation has been terminated.

Signed in Washington, DC, this 16th day of April 2009.
Richard Church,
Certifying Officer, Division of Trade Adjustment Assistance.

[FR Doc. E9-10908 Filed 5-8-09; 8:45 am]

BILLING CODE 4510-FN-P